DEPARTMENT OF COMMERCE

National Oceanic and Atmospheric Administration

RIN 0648-XB139

Marine Mammals; File No. 17178

AGENCY: National Marine Fisheries Service (NMFS), National Oceanic and Atmospheric Administration (NOAA), Commerce.

ACTION: Notice; issuance of permit.

SUMMARY: Notice is hereby given that a permit has been issued to Virginia Institute of Marine Science [Responsible Party: Elizabeth Canuel, Ph.D.], P.O. Box 1346, Route 1208 Greate Road, Gloucester Point, VA 23062 to import marine mammal parts for scientific research.

ADDRESSES: The permit and related documents are available for review upon written request or by appointment in the following offices:

Permits and Conservation Division, Office of Protected Resources, NMFS, 1315 East-West Highway, Room 13705, Silver Spring, MD 20910; phone (301)427-8401; fax (301)713-0376;

Southwest Region, NMFS, 501 West Ocean Blvd., Suite 4200, Long Beach, CA 90802-4213; phone (562)980-4001; fax (562)980-4018; and

Southeast Region, NMFS, 263 13th Avenue South, Saint Petersburg, Florida 33701; phone (727)824-5312; fax (727)824-5309.

FOR FURTHER INFORMATION CONTACT: Laura Morse or Amy Sloan, (301)427-8401.

SUPPLEMENTARY INFORMATION: On April 02, 2012 notice was published in the Federal Register (77 FR 19646) that a request for a permit to import marine mammal parts for scientific research had been submitted by the above-named applicant. The requested permit has been issued under the authority of the Marine Mammal Protection Act of 1972, as amended (16 U.S.C. 1361 et seq.), and the regulations governing the taking and importing of marine mammals (50 CFR part 216).

The permit authorizes the import of fur, blood, and fat biopsies from up to 300 crabeater seals (Lobodon carcinophaga), 200 Weddell seals (Leptonychotes weddellii), 50 Ross seals (Ommatophoca Rossii), and 25 leopard seals (Hydrurga leptonyx). No takes of live animals are authorized. The permit will expire June 01, 2017.

In compliance with the National Environmental Policy Act of 1969 (42 U.S.C. 4321 et seq.), a final determination has been made that the activity proposed is categorically excluded from the requirement to prepare an environmental assessment or environmental impact statement.

Dated: June 5, 2012.
P. Michael Payne,
Chief, Permits and Conservation Division, Office of Protected Resources, National Marine Fisheries Service.

[FR Doc. 2012-14133 Filed 6-8-12; 8:45 am]

BILLING CODE 3510-22-P